UNIFIED CARRIER REGISTRATION PLAN

Sunshine Act Meetings

TIME AND DATE: August 10, 2023, 12:00 p.m. to 3:00 p.m., Eastern time.

PLACE: This meeting will be accessible via conference call and via Zoom Meeting and Screenshare. Any interested person may call (i) 1-929-205-6099 (US Toll) or 1-669-900-6833 (US Toll), Meeting ID: 924 5715 1021, to listen and participate in this meeting. The website to participate via Zoom Meeting and Screenshare is https://kellen.zoom.us/meeting/register/tJYpcu6pqzoqGNWu5SfY2GD3KSx9l6qe1PRL.

STATUS: This meeting will be open to the public.

MATTERS TO BE CONSIDERED: The Unified Carrier Registration Plan Audit Subcommittee (the “Subcommittee”) will continue its work in developing and implementing the Unified Carrier Registration Plan and Agreement. The subject matter of this meeting will include:

Proposed Agenda

I. Call to Order—UCR Audit Subcommittee Chair

The UCR Audit Subcommittee Chair will welcome attendees, call the meeting to order, call roll for the Audit Subcommittee, confirm whether a quorum is present, and facilitate self-introductions.

II. Verification of Publication of Meeting Notice—UCR Executive Director

The UCR Executive Director will verify the publication of the meeting notice on the UCR website and distribution to the UCR contact list via email followed by the subsequent publication of the notice in the Federal Register.

III. Review and Approval of Subcommittee Agenda and Setting of Ground Rules—UCR Audit Subcommittee Chair

For Discussion and Possible Subcommittee Action

The agenda will be reviewed, and the Subcommittee will consider adoption.

Ground Rules

Subcommittee action only to be taken in designated areas on the agenda.

IV. Review and Approval of Subcommittee Minutes From the May 4, 2023 Meeting—UCR Audit Subcommittee Chair

For Discussion and Possible Subcommittee Action

Draft minutes from the May 4, 2023 Subcommittee meeting via teleconference will be reviewed. The Subcommittee will consider action to approve.

V. Discussion of Automatic Annual Renewal of UCR Registration—UCR Executive Director and Seikosoft Representative

For Discussion and Possible Subcommittee Action

The UCR Executive Director and Seikosoft Representative will lead a discussion on the issues involved in the voluntary, annual, and automatic renewal of UCR registrations. The Subcommittee may take action to recommend to the Board that Seikosoft design and implement a system using business rules recommended by the Subcommittee that allow for the voluntary, annual, and automatic renewal of UCR registrations.

VI. Discuss Options To Replace the Retreat Audit Program With a Program That Relies on Roadside Inspection Data—UCR Audit Subcommittee Chair, UCR Audit Subcommittee Vice-Chair, DSL Transportation Representative, and Seikosoft Representative

For Discussion and Possible Subcommittee Action

The UCR Audit Subcommittee Chair, UCR Audit Subcommittee Vice-Chair, DSL Transportation Representative and Seikosoft Representative will lead a discussion on options to replace the Retreat Audit Program currently utilized by the States with an automated roadside inspection data driven audit for non-IRP and IRP-plated commercial motor vehicles (CMVs) and the motor carriers operating this type of registered equipment. The Subcommittee may take action to recommend to the Board that the current Retreat Audit Program be replaced with an automated roadside inspection data driven audit for non-IRP and IRP-plated commercial motor vehicles and the motor carriers operating this type of registered equipment.

VII. Discuss Options To Perform a Review That Reflects a More Accurate Number of Unregistered Motor Carriers of the UCR Universe in Shadow; MCMIS—UCR Audit Subcommittee Chair, UCR Audit Subcommittee Vice-Chair, DSL Transportation Representative and Seikosoft Representative

For Discussion and Possible Subcommittee Action

The UCR Audit Subcommittee Chair, UCR Audit Subcommittee Vice-Chair, DSL Transportation Representative and Seikosoft Representative will lead a discussion on options and necessary steps for the NRS and State Auditors to review 2022/2023 unregistered motor carriers in Shadow MCMIS. The Subcommittee may take action to recommend to the Board that the UCR Plan perform a review that reflects a more accurate number of unregistered motor carriers of the UCR Universe in Shadow MCMIS.

VIII. Discuss Options To Add New Compliance Initiatives to the States' Annual Audit Reporting Requirements—UCR Audit Subcommittee Chair, UCR Audit Subcommittee Vice-Chair

For Discussion and Possible Subcommittee Action

The UCR Audit Subcommittee Chair and UCR Audit Subcommittee Vice-Chair will lead a discussion on options to update the States' Annual Audit Reporting Requirements beginning with the 2023 UCR Registration Year. The Subcommittee may take action to recommend to the Board new compliance initiatives to the States' Annual Audit Reporting Requirements.

IX. General Discussion on the Direction of the Audit Subcommittee—UCR Audit Subcommittee Chair and UCR Audit Subcommittee Vice-Chair

The UCR Audit Subcommittee Chair and UCR Audit Subcommittee Vice-Chair will lead a general discussion on the current programs/projects of the Audit Subcommittee.

X. Update on Monthly Question and Answer Session for State Auditors—UCR Audit Subcommittee Chair, UCR Audit Subcommittee Vice-Chair, and UCR Executive Director

The UCR Audit Subcommittee Chair, UCR Audit Subcommittee Vice-Chair and UCR Executive Director will lead discussion on the value and continuation of a series of 60-minute virtual question and answer sessions.

XI. Other Business—UCR Audit Subcommittee Chair

The UCR Audit Subcommittee Chair will call for any other items Subcommittee members would like to discuss.

XII. Adjournment—UCR Audit Subcommittee Chair

The UCR Audit Subcommittee Chair will adjourn the meeting.

The agenda will be available no later than 5:00 p.m. Eastern time, August 3, 2023 at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2023-16921 Filed 8-3-23; 11:15 am]

BILLING CODE 4910-YL-P